DEPARTMENT OF ENERGY

Federal Energy Regulatory Commission

Combined Notice of Filings #1

Take notice that the Commission received the following electric rate filings:

Docket Numbers: ER10-2835-007.

Applicants: Google Energy LLC.

Description: Notice of Change in Status of Google Energy LLC.

Filed Date: 2/27/17.

Accession Number: 20170227-5216.

Comments Due: 5 p.m. ET 3/20/17.

Docket Numbers: ER17-194-001.

Applicants: Hartree Partners, LP.

Description: Notice of Change in Status of Hartree Partners, LP.

Filed Date: 2/27/17.

Accession Number: 20170227-5234.

Comments Due: 5 p.m. ET 3/20/17.

Docket Numbers: ER17-569-000.

Applicants: National Choice Energy LLC.

Description: Supplement to December 16, 2016 National Choice Energy LLC tariff filing.

Filed Date: 2/8/17.

Accession Number: 20170208-5078.

Comments Due: 5 p.m. ET 3/1/17.

Docket Numbers: ER17-569-000.

Applicants: National Choice Energy LLC.

Description: Second Supplement to December 16, 2016 National Choice Energy LLC tariff filing (Asset Appendix).

Filed Date: 2/10/17.

Accession Number: 20170210-5188.

Comments Due: 5 p.m. ET 3/3/17.

Docket Numbers: ER17-569-000.

Applicants: National Choice Energy LLC.

Description: Amendment to December 16, 2016 National Choice Energy LLC tariff filing.

Filed Date: 2/15/17.

Accession Number: 20170215-5077.

Comments Due: 5 p.m. ET 3/8/17.

Docket Numbers: ER17-867-000.

Applicants: Black Oak Wind, LLC.

Description: § 205(d) Rate Filing: Notice of Non-Material Change in Status of Black Oak Wind, LLC to be effective 3/28/2017.

Filed Date: 1/27/17.

Accession Number: 20170127-5139.

Comments Due: 5 p.m. ET 3/21/17.

Docket Numbers: ER17-1040-000.

Applicants: ITC Interconnection LLC.

Description: § 205(d) Rate Filing: Amendments to Facilities Reimbursement Agreement to be effective 4/29/2017.

Filed Date: 2/27/17.

Accession Number: 20170227-5081.

Comments Due: 5 p.m. ET 3/20/17.

Docket Numbers: ER17-1046-000.

Applicants: South Central MCN LLC.

Description: Compliance filing: SCMCN Compliance Filing to be effective 12/31/9998.

Filed Date: 2/27/17.

Accession Number: 20170227-5188.

Comments Due: 5 p.m. ET 3/20/17.

Docket Numbers: ER17-1047-000.

Applicants: Sierra Pacific Power Company.

Description: Notice of Cancellation of General Transfer Agreement Rate Schedule No. 17 of Sierra Pacific Power Company.

Filed Date: 2/27/17.

Accession Number: 20170227-5215.

Comments Due: 5 p.m. ET 3/20/17.

Docket Numbers: ER17-1048-000.

Applicants: New England Power Pool Participants Committee.

Description: § 205(d) Rate Filing: Mar 2017 Membership Filing to be effective 3/1/2017.

Filed Date: 2/28/17.

Accession Number: 20170228-5079.

Comments Due: 5 p.m. ET 3/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2017.
Nathaniel J. Davis, Sr.,
Deputy Secretary.

[FR Doc. 2017-04285 Filed 3-3-17; 8:45 am]

BILLING CODE 6717-01-P